DEPARTMENT OF TRANSPORTATION

National Highway Traffic Safety Administration

[U.S. DOT Docket No. NHTSA-2020-0006]

Agency Information Collection Activities; Notice and Request for Comment; Government 5-Star Safety Ratings Label Consumer Research

AGENCY: National Highway Traffic Safety Administration (NHTSA), U.S. Department of Transportation (DOT).

ACTION: Notice and request for public comment on proposed collection of information.

SUMMARY: The National Highway Traffic Safety Administration (NHTSA) invites public comments about our intention to request approval from the Office of Management and Budget on a new collection of information. Before a Federal agency can collect certain information from the public, it must receive approval from OMB. Under procedures established by the Paperwork Reduction Act of 1995, before seeking OMB approval, Federal agencies must solicit public comment on proposed collections of information, including extensions and reinstatements of previously approved collections. This document describes one collection of information for consumer information purposes for which NHTSA intends to seek OMB approval.

DATES: Written comments should be submitted on or before June 29, 2020.

ADDRESSES: You may submit comments, identified by the docket number [NHTSA-2020-0006] in the heading of this document, by any of the following methods:

• Federal eRulemaking Portal: Go to http://www.regulations.gov. Follow the instructions for submitting comments on the electronic docket site by clicking on “Help” or “FAQ.”

• Mail or Hand Delivery: 1200 New Jersey Avenue SE, West Building Ground Floor, Room W12-140, between 9 a.m. and 5 p.m. Eastern Time, Monday through Friday, except Federal holidays.

• Fax: 202-493-2251.

Regardless of how you submit comments, you should mention the docket number of this document.

You may call the Docket Management Facility at 202-366-9826.

Instructions: For detailed instructions on submitting comments and additional information on the information collection process, see the Public Participation heading of the Supplementary Information section of this document. Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read comments received, go to http://www.regulations.gov, or the street address listed above. Follow the online instructions for accessing the dockets.

FOR FURTHER INFORMATION CONTACT: Mike Joyce, Marketing Specialist, Office of Communications and Consumer Information (NCO-0200), National Highway Traffic Safety Administration, 1200 New Jersey Ave. SE, W52-238, Washington, DC 20590. Mike Joyce's phone number is 202-366-5600 and his email address is Mike.Joyce@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g., permitting electronic submission of responses.

In compliance with these requirements, NHTSA asks for public comments on the following proposed collection of information for which the agency is seeking approval from OMB:

Title: Government 5-Star Safety Ratings Label Consumer Research

Type of Request: Request for approval of a new information collection

Type of Review Requested: Regular

Requested Expiration Date of Approval: Three years from approval date.

Abstract: The National Highway Traffic Safety Administration (NHTSA) was established by the Highway Safety Act of 1970 (23 U.S.C. 101) to save lives prevent injury, and reduce motor vehicle crashes on the Nation's highways. One of NHTSA's directives is to provide to the public the following information about passenger motor vehicles: Damage susceptibility; crashworthiness, crash avoidance, and any other areas NHTSA determines will improve safety of passenger motor vehicles; and the degree of difficulty of diagnosis and repair of damage to, or failure of, mechanical and electrical systems. (49 U.S.C. 32302). Under its New Car Assessment Program (NCAP) and 5-Star Safety Ratings Program, NHTSA conducts frontal crash, side crash and rollover resistance tests to new vehicles and, based on the results, assigns safety ratings to the tested vehicles. The ratings enable consumers to consider and assess the relative safety of vehicles before deciding which new vehicle they want to purchase.

In 2005, Congress enacted SAFETEA-LU (Pub. L. 109-49), which required the safety ratings assigned by NHTSA under NCAP or a statement that the vehicle was not assigned safety ratings under NCAP to be included on the window label for new vehicles, known as the Monroney label.¹ On December 4, 2015, Congress enacted the Fixing America's Surface Transportation (FAST) Act which requires the Secretary of Transportation (NHTSA by delegation) to issue a rule to ensure crash avoidance information is provided next to crashworthiness information on vehicle windows stickers.²

¹ The Automobile Information Disclosure Act of 1958, 15 U.S.C. 1231-1233, requires that new vehicles carry a sticker on a window containing specified information about the vehicle.

² Section 24322 of Part II—Safety Through Informed Consumers Act of 2015. Public Law 114-94.

In continuing support of its mission and to assist the agency in meeting its FAST Act requirement, NHTSA proposes to conduct qualitative research using focus groups in four geographic markets located across the country to evaluate design and consumer information improvements to the Government 5-Star Safety Ratings section of the Monroney label.³ This information collection will involve a one-time phone voluntary survey involving members of the public to identify research participants and a one-time, in-person, focus group. Participants in the research program will be asked to evaluate design and consumer information improvements to the Government 5-Star Safety Ratings section of the vehicle window sticker. NHTSA will use the findings from this research to support planned changes to the label and future consumer communications on vehicle safety ratings and advanced crash avoidance technology system performance assessments.

³ The Automobile Information Disclosure Act of 1958, 15 U.S.C. 1231-1233, requires that new vehicles carry a sticker on a window containing specified information about the vehicle.

Summary of the Collection of Information: In this collection of information, NHTSA is seeking approval to conduct qualitative focus groups with 72 consumer participants. The focus groups aim to achieve the following objectives:

(1) Evaluate the overall appeal of each label concept and identify specific likes and dislikes associated with specific components of the label;

(2) Measure the ease of comprehension for each label concept and understand which visual and text features are most effective at conveying vehicle safety information;

(3) Assess the distinctiveness of how the information is displayed and understand how best to make the vehicle safety information stand out on the Monroney label; and,

(4) Identify additional areas of improvement related to the three main label sections relating to safety protection, safety technology and overall vehicle safety performance.

Description of the Need for the Information and the Proposed Use of the Information: This collection of information will allow NHTSA to obtain critical information needed to fulfill the 2015 Fixing America's Surface Transportation (FAST) Act requirement that NHTSA issue a rule to ensure crash avoidance information is provided next to crashworthiness information on vehicle windows stickers.⁴ Specifically, the data from this collection will be used to not only enhance consumer understanding of NHTSA's vehicle safety ratings and advanced crash avoidance technology system performance assessments, but also guide the development of communications that will help consumers as they consider this information in their vehicle purchase decisions.

⁴ Section 24322 of Part II—Safety Through Informed Consumers Act of 2015 requires the Secretary of Transportation (NHTSA by delegation) to issue a rule to ensure that crash avoidance information is indicated next to crashworthiness information on stickers placed on motor vehicles by their manufacturers. Public Law 114-94, December 4, 2015.

Affected Public: Members of the public.

Number of Respondents: 560.

For this information collection, NHTSA plans to conduct a total of 8 focus groups (2 groups in each of 4 markets), each lasting approximately 90 minutes. NHTSA intends for each focus group to consist of approximately 9 participants for a total of 72 participants in the focus group sessions. Based on experience, NHTSA will need to recruit up to 14 people per focus group in order to ensure that at least 9 will appear at the focus group facility at the appointed time. If more than 9 participants show up at the facility for a given session, the research team will select 9 participants based on their profile information provided in the recruitment grid to seat. The remaining participants will be paid their honorarium and sent home. Therefore, in order to ensure that there are approximately 9 participants per focus group session, a total of 112 potential participants (14 per focus group) will be recruited via telephone screening calls, which are estimated to take 5 minutes per call. In order to recruit 112 potential participants, NHTSA estimates that it will be necessary to initially reach out to and screen 560 people. This is based on experience that demonstrates that of the people that are contacted, 20% will qualify for the study, be available, and be interested in participating in the focus group.

Estimated Total Annual Burden Hours: 154.7 hours.

NHTSA estimates the total burden per person actually participating in this focus group research is estimated to be 95 minutes (5 minutes for the screening/recruiting telephone call plus 90 minutes in the focus group discussion session). Additionally, the total burden per person recruited (but not participating in the discussions) is 5 minutes. Therefore, the total annual estimated burden imposed by this collection is approximately 154.7 hours.

Category of respondent | Number of respondents | Participation time (minutes) | Burden (hours)
Recruit/Screening call (assumes 20% qualify; are available and interested in participating in the focus group) | 560 | 5 | 46.7
Participation in 90-minute group | 72 | 90 | 108
Total Burden |  |  | 154.7

Estimated Costs to Respondents: $2,484.00.

The only cost burdens respondents will incur are costs related to travel to and from the research location. The costs are minimal and are expected to be offset by the honorarium that will be provided to all research participants. NHTSA estimates that each of the focus group participants will travel less than 30-miles one-way to the focus group location. Using the IRS standard mileage rate of $0.575 per mile,⁵ each respondent is expected to incur no more than $34.50 in transportation costs. Therefore, NHTSA estimates that the total costs to all respondents will be $2,484.00.

⁵ From Internal Revenue Services' 2020 Standard Mileage Rate for business miles driven. https://www.irs.gov/pub/irs-drop/n-20-05.pdf, last accessed March 26, 2020.

Public Comments Invited: The results of this research will be used to inform communications for the New Car Assessment Program, also known as the Government 5-Star Safety Ratings program. Comments are invited on (1) whether the proposed collection of information is necessary for the proper performance of the functions of the Department, including whether the information will have practical utility; (2) the accuracy of the Department's estimate of the burden of the proposed information collection; (3) ways to enhance the quality, utility and clarity of the information to be collected; and (4) ways to minimize the burden of the collection of information on respondents, including the use of automated collection techniques or other forms of information technology. The agency will summarize and/or include your comments in the request for OMB's clearance of this information collection.

(Authority: The Paperwork Reduction Act of 1995; 44 U.S.C. Chapter 35, as amended; 49 CFR 1.49; and DOT Order 1351.29)

Issued on: April 22, 2020.
James Kenneth Schulte,
Acting Associate Administrator, Office of Communications and Consumer Information.

[FR Doc. 2020-08949 Filed 4-27-20; 8:45 am]

BILLING CODE 4910-59-P